DEPARTMENT OF THE INTERIOR

Minerals Management Service

Outer Continental Shelf, Headquarters, Long Island Offshore Wind Park Development

AGENCY: Minerals Management Service (MMS), Interior.

ACTION: Notice of intent to prepare an Environmental Impact Statement (EIS), invitation for participation by cooperating agencies, and scoping period.

SUMMARY: The MMS has received a request from Long Island Offshore Wind Park, LLC (LIOWP) for a lease, easement, or right-of-way to construct and operate a wind energy facility in Federal waters off Long Island, 3.6 miles southwest of Jones Beach Island, Nassau and Suffolk Counties, New York. The purpose of this project is to provide a utility-scale renewable energy facility providing power to the New York electrical grid. Forty wind turbine generators are proposed to generate 140 megawatts of electricity and deliver it to an existing substation near West Amityville by means of a buried transmission line. By this notice, the MMS announces: (1) Its intention to prepare an EIS; (2) an invitation for participation by interested cooperating agencies in the review; and (3) the beginning of EIS scoping under the National Environmental Policy Act (NEPA); and (4) the dates and locations for two public meetings to receive comments on the scope of the EIS.

DATES: The MMS will receive written comments on the LIOWP proposal for 60 days beginning on the date of this notice. Scoping meetings will be held to receive input from the general public, interest groups, Indian tribes, and interested State and Federal agencies. A meeting is scheduled on July 10, 2006, from 7 p.m. to no later than midnight at the West Babylon High School Performing Arts Center, 500 Great East Neck Road, West Babylon, New York, 11704. Another meeting is scheduled on July 11, 2006, from 7 p.m. to no later than midnight at Massapequa High School (auditorium), 4925 Merrick Road, Massapequa, New York, 11758. Registration at each site will begin at 5:30 p.m. Instructions for offering comments via the internet and in writing are provided below.

FOR FURTHER INFORMATION CONTACT: Mr. Doug Slitor, Project Manager, at (703) 787-1030 in MMS's Headquarters office for questions about this NOI. For questions about scoping for this EIS contact Dr. Thomas Bjerstedt at 504-736-5743 in our Gulf of Mexico regional office.

SUPPLEMENTARY INFORMATION:

1. Background

The LIOWP proposal is for construction and operation of a wind energy facility on approximately 8 sq miles of the OCS off Long Island. Forty wind turbine generators are proposed to be mounted on monopole foundations driven into the sea bed. A 3-bladed nacelle and rotor unit is proposed to be mounted at the top of each monopole 260 feet above water level and give each turbine a generating capacity of 3.6 Mw of electricity. A system of buried gathering lines is proposed to carry electricity from each turbine to an electrical service platform. From there, a proposed 10-mile-long 138 kV transmission cable buried in the sea bed from the service platform would extend across New York state waters to landfall and tie-in to the existing Sterling electrical substation in Nassau County that is operated by Long Island Power Authority (LIPA).

On April 26, 2005, LIOWP/LIPA filed a joint application with the U.S. Army Corps of Engineers (USACOE) in anticipation of constructing the LIOWP under Section 10 of the Rivers and Harbors Act of 1899 (33 U.S.C. 403, et seq.). On June, 9, 2005, the USACOE issued a Public Notice (2005-00365-L4) seeking written comments on the LIOWP proposal. The initial July 22 comment deadline was later extended to August 12, 2005. On August 8, 2005, however, the Energy Policy Act of 2005 (Act) was signed by the President. Section 388 of the Act authorizes the Department of the Interior (MMS) to issue leases, easements, or rights-of-way for renewable energy projects on the U.S. Outer Continental Shelf. MMS will undertake environmental evaluation and decision-making for these proposals in Federal waters, and subsequently monitor and regulate the offshore facilities used for renewable energy production and energy support services.

The MMS has determined that an EIS is required for an appropriate NEPA review of this proposal. This review will consider potential impacts from pre-construction to decommissioning. The review will consider all relevant information, including but not limited to the information developed by LIOWP/LIPA in pursuit of a USACOE Section 10 permit under the Rivers and Harbors Act.

2. Cooperating Agency

The MMS invites other Federal, State, tribal, and local governments to consider becoming cooperating agencies during preparation of the EIS for the LIOWP proposal. Per guidelines from the Council on Environmental Quality (CEQ), qualified agencies and governments are those with “jurisdiction by law or special expertise.” Potential cooperating agencies should consider their authority and capacity to assume the responsibilities of a cooperating agency and remember that their role in the environmental analysis neither enlarges nor diminishes the final decision making-authority of any other agency involved in the NEPA process. Upon request, the MMS will provide potential cooperating agencies with a written summary of ground rules for cooperating agencies, including time schedules and critical action dates, milestones, responsibilities, scope and detail of cooperating agencies' contributions, and availability of pre-decisional information. The MMS anticipates this summary will form the basis for an understanding between the MMS and each cooperating agency. Agencies should also consider the “Factors for Determining Cooperating Agency Status” in Attachment 1 to CEQ's January 30, 2002, Memorandum for the Heads of Federal Agencies on Cooperating Agencies in Implementing the Procedural Requirements of the National Environmental Policy Act. A copy of this document is available at: (http://ceq.eh.doe.gov/nepa/regs/cooperating/cooperatingagenciesmemorandum.html) and (http://ceq.eh.doe.gov/nepa/regs/cooperating/cooperatingagencymemofactors.html).

As the lead agency, MMS will not be providing financial assistance to cooperating agencies. Even if an organization is not a cooperating agency, it will continue to have opportunities to provide information and comments to the MMS during the normal public input phases of the NEPA process. The MMS will also consult with tribal governments on a government-to-government basis.

The MMS recognizes coordination potentially involving (but not limited to) the following statutes during our NEPA analysis: the Endangered Species Act of 1973, as amended (Pub. L. 93-205; 16 U.S.C. 1531, et seq.); the Magnuson-Stevens Fishery Conservation and Management Act of 1976, as amended (Pub. L. 94-265; 16 U.S.C. 1801, et seq.), the Marine Mammal Protection Act of 1972 (Pub. L. 92-522; 16 U.S.C. 1361, et seq.); the National Historic Preservation Act of 1966, as amended (Pub. L. 89-665; 16 U.S.C. 470, et seq.); the Fish and Wildlife Coordination Act of 1958, as amended (Pub. L. 85-624; 16 U.S.C. 661, et seq.); the Migratory Bird Treaty Act of 1918, as amended (16 U.S.C. 703-712, et seq.); the Coastal Zone Management Act of 1972, as amended (Pub. L. 92-583; 16 U.S.C. 1451, et seq.); the Clean Water Act of 1977, as amended (Pub. L. 92-500; 33 U.S.C. 1251, et seq.); the Clean Air Act of 1970, as amended (Pub. L. 91-604; 42 U.S.C. 7401, et seq.); and the Rivers and Harbors Act. The MMS plans to send invitation letters to specific agencies we believe should assume cooperating status during our NEPA review of the LIOWP application, but cooperating status is not restricted to those agencies we contact.

3. Scoping

This announcement begins an EIS scoping period for the LIOWP proposal that extends for 60 days. Public meetings to receive scoping comments are scheduled on July 10, 2006, at the West Babylon High School Performing Arts Center, and on July 11, 2006, at Massapequa High School at the times indicated above.

The MMS will consider the LIOWP proposal and the no action alternative, as well as all other alternatives identified during scoping, which could include, but not be limited to, modifying the size or configuration of the development, phasing the development, or use of alternative sites. Significant resources to be analyzed are expected to include, among others: geology, oceanography, climate, upland and coastal resources, water and air quality, birds and bats, marine mammals, sea turtles, fish, benthic invertebrates, endangered and/or threatened species, vessel traffic, socioeconomic resources, urban and suburban infrastructure and land use, cultural and historical properties, cultural and historical archaeology, commercial and recreational fishing, visual aesthetics, tourism and recreation, human resources such as demographics, income profiles, and property values, and competing usage of the waters and sea bed of New York State and the Federal OCS. Impact-producing factors expected to be considered during the construction, operation, and decommissioning of a wind facility would include, among others: visual aesthetics, sea bed disturbance, routine and accidental vessel or facility discharges, noise and vibration, rotation of rotor blades resulting in the potential for bird collisions, installation and decommissioning activities, and economic impacts of the wind facility. The MMS also requests comments on how potential impacts might be mitigated and monitored.

Federal, State, tribal, and local governments, interested groups or parties, and members of the public may send us comments on the scope of the EIS in one of two ways. Our preferred method to receive comments is through our Internet-based public commenting system, OCS Public Connect. Access this system at http://www.mms.gov/LIOWP and follow the directions provided on the Web site. If you have difficulty submitting your comments over OCS Public Connect, contact Dr. Thomas Bjerstedt at 504-736-5743.

Written comments may be mailed to the following address: Minerals Management Service, MS 5412, 1201 Elmwood Park Blvd., New Orleans, LA 70123. Plainly label your comment(s), “Comments on EIS Scoping for the LIOWP Project.” Our practice is to make written comments, including names and addresses of respondents, available for public review during regular business hours. Individual respondents may request that we withhold their address from the rulemaking record, which we will honor to the extent allowable by law. There also may be circumstances in which we would withhold a respondent's identity, as allowable by law. If you wish us to withhold your name and/or address, you must state this prominently at the beginning of your comment. We will not consider anonymous comments. Comments merely expressing disapproval or support for the proposal will not receive a written response. We will make all submissions from organizations or businesses, and from individuals identifying themselves as representatives or officials of organizations or businesses, available for public inspection in their entirety.

Information on the MMS's Renewable Energy and Alternate Use Program that we are now developing can be found at: http://www.mms.gov/offshore/RenewableEnergy/RenewableEnergyMain.htm.

Dated: May 24, 2006.
Chris C. Oynes,
Acting Associate Director for Offshore Minerals Management.

[FR Doc. E6-9594 Filed 6-16-06; 8:45 am]

BILLING CODE 4310-MR-P